DEPARTMENT OF DEFENSE

Department of the Air Force

Active Duty Service Determinations for Civilian or Contractual Groups

AGENCY: DoD Civilian/Military Service Review Board, Department of the Air Force.

ACTION: Notice.

SUMMARY: On 15 August 2019, the Secretary of the Air Force, acting as Executive Agent of the Secretary of Defense, determined that the service of the group known as: “Department of the Navy (DON) Civilian Special Agents who Served in Direct Support and Under Control of the DON, within the Republic of Vietnam, During the Period January 9, 1962 through May 7, 1975 (Vietnam War)” be considered “active duty” under the provisions of Public Law 95-202 for the purposes of all laws administered by the Department of Veterans Affairs (DVA).

FOR FURTHER INFORMATION CONTACT: Colonel Patricia Barr at the Secretary of the Air Force Personnel Council (SAFPC); 1500 West Perimeter Road, Joint Base Andrews, NAF Washington, MD 20762-7002.

SUPPLEMENTARY INFORMATION: To be eligible for DVA benefits, persons who believe they were part of this group recognized by the Secretary must establish each of the following:

1. They were employed by the Department of the Navy (DON) as Civilian Special Agents assigned to the Office of Naval Intelligence (ONI) or Naval Investigative Service (NIS); and 2. During their service as Civilian Special Agents assigned to ONI/NIS, served within the Republic of Vietnam, in their capacity as Civilian Special Agents, during the period January 9, 1962 through May 7, 1975.

Application Procedures

Before an individual can receive any DVA benefits, the person must first apply for a Department of Defense (DD) Form 214, Certificate of Release or Discharge from Active Duty, by filling out a DD Form Form 2168, Application for Discharge of Member or Survivor of Member of Group Certified to Have Performed Active Duty with the Armed Forces of the United States, and sending it to the Navy Personnel Command at the following address: Navy Personnel Command (PERS-312), Millington, TN 38054-5045.

Important: The burden of proof of substantiating membership in the group rests with the Applicant. Applicants must attach supporting documents to their DD Form 2168 application. Of primary importance will be any employment records from the Department of the Navy Office of Naval Intelligence (ONI)/Naval Investigative Service (NIS). Other supporting documentation might include copies of passports with appropriate entries, military or civilian orders posting the applicant to an assignment in the Republic of Vietnam, reports signed by or mentioning the work of the applicant as part of ONI/NIS Civilian Special Agents performing duties in the Republic of Vietnam, military identification forms, any personal employment records such as commendations regarding performance, employee expense reports of charges to contracts, medical certifications prior to departure from the U.S., military passes to leave the limits of a location within the Republic of Vietnam, other miscellaneous military papers, etc. Applicants having difficulty establishing all of the eligibility criteria mentioned above should recognize the nature and character of documents addressing each criterion need not be the same. For example, an applicant may establish employment with ONI/NIS through official employment records, but find that proving assignment to locations within the Republic of Vietnam as an ONI/NIS Civilian Special Agent more difficult. In such a case, an applicant may be able to prove assignment and service at that location through other evidence, such as, dated, postmarked (or other sign of authenticity) correspondence (official or personal) to or from the applicant at that assignment within the Republic of Vietnam. Upon confirmation of an applicant's eligibility, the DD Form 214 will be passed from the application office to an awards and decorations office to determine which ribbons the applicant is eligible to receive (campaign ribbons, theater ribbons, victory medal, etc.). Specific awards (i.e., Silver Star, Purple Heart, etc.) need separate justification detailing the act, achievement, or service believed to warrant the appropriate medal/ribbon.

DD Forms 2168 are available from VA offices or from the military service offices in this notice. An electronic version is also available on the internet at “DefenseLINK, websites, forms.”

Benefit Information

A determination of “active duty” under Public Law 95-202 is “for the purposes of all laws administered by the Department of Veterans Affairs” (Sec 106, 38 U.S.C.). Benefits are not retroactive and do not include such things as increased military or Federal Civil Service retirement pay, or a military burial detail, for example. Entitlement to state veteran's benefits varies and is governed by each state. Therefore, for specific benefits information, contact your nearest Veterans Affairs Office and your state veteran's service office after you have received your DD Form 214.

Adriane Paris,
Acting Air Force Federal Register Liaison Officer.

[FR Doc. 2020-00807 Filed 1-17-20; 8:45 am]

BILLING CODE 5001-10-P